NUCLEAR REGULATORY COMMISSION

[DOCKET NO. 50-285]

Omaha Public Power District; Notice of Withdrawl of Application for Amendment to Facility Operating License

The U.S. Nuclear Regulatory Commission (the Commission) has granted the request of Omaha Public Power District (OPPD/the licensee) to withdraw its October 27, 2000, application for proposed amendment to Facility Operating License No. DPR-40 for the Fort Calhoun Station, Unit 1, located in Washington County, Nebraska.

The proposed amendment would have eliminated the refueling requirement for the 13.8 kV transmission line surveillance test. Fort Calhoun receives 161 kV and 345 kV off-site power from the switchyard at the plant site. Power from a 13.8 kV supply is also available in the switchgear room. The ability to use the 13.8 kV power supply, originally a construction power supply, was added to the technical specifications (TSs) during the licensing of the Fort Calhoun Station because in the NRC's review of the Fort Calhoun Final Safety Analysis Report, it was noted that the 345 kV lines passed over the 161 kV lines, and should a 345 kV line fall for any reason, the 161 kV line might also be lost. OPPD maintained that this line is not capable of supplying post-design basis accident loads and it is not credited in the licensing basis for mitigation of design basis accidents. In addition, OPPD stated the surveillance test places a significant burden upon the operating crew and involves the switching of many components. After several discussions with the staff, OPPD has decided to withdraw this request to re-evaluate the basis for this TS change.

The Commission had previously issued a Notice of Consideration of Issuance of Amendment published in the Federal Register on December 27, 2000 (65 FR 81927). However, by letter dated October 5, 2001, the licensee withdrew the proposed change.

For further details with respect to this action, see the application for amendment dated October 27, 2000, and the licensee's letter dated October 5, 2001, which withdrew the application for the license amendment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index/html. Persons who do not have access to ADAMS or who encounter problems in accessing the documents located in ADAMS, should contact the NRC Public Document Room (PDR) Reference staff by telephone at 1-800-397-4209, 301-415-4737 or by email to pdr@nrc.gov.

Dated at Rockville, Maryland, this 23rd day of October 2001.
For the Nuclear Regulatory Commission.
Alan B. Wang,
Project Manager, Section 2, Project Directorate IV, Division of Licensing Project Management, Office of Nuclear Reactor Regulation.

[FR Doc. 01-27158 Filed 10-26-01; 8:45 am]

BILLING CODE 7590-01-P